DEPARTMENT OF EDUCATION

Applications for New Awards; Personnel Development to Improve Services and Results for Children With Disabilities—Leadership Consortia in Sensory Disabilities and Disabilities Associated With Intensive Service Needs

AGENCY: Office of Special Education and Rehabilitative Services, Department of Education.

ACTION: Notice.

Overview Information

Personnel Development to Improve Services and Results for Children with Disabilities—Leadership Consortia in Sensory Disabilities and Disabilities Associated with Intensive Service Needs

Notice inviting applications for new awards for fiscal year (FY) 2014.

Catalog of Federal Domestic Assistance (CFDA) Number: 84.325H.

DATES: Applications Available: April 21, 2014.

Deadline for Transmittal of Applications: June 5, 2014.

Deadline for Intergovernmental Review: August 4, 2014.

Full Text of Announcement

I. Funding Opportunity Description

Purpose of Program: The purposes of this program are to (1) help address State-identified needs for highly qualified personnel in special education, related services, early intervention, and regular education to work with children, including infants and toddlers, with disabilities; and (2) ensure that those personnel have the necessary skills and knowledge, derived from practices that have been determined through scientifically based research and experience, to be successful in serving those children.

Priorities: This competition has one absolute priority with two focus areas. In accordance with 34 CFR 75.105(b)(2)(v), the absolute priority is from allowable activities specified in the statute (see sections 662 and 681 of the Individuals with Disabilities Education Act (IDEA)).

Absolute Priority: For FY 2014 and any subsequent year in which we make awards from the list of unfunded applicants from this competition, this priority is an absolute priority. Under 34 CFR 75.105(c)(3), we consider only applications that meet this priority.

This priority is:

Personnel Development to Improve Services and Results for Children With Disabilities—Leadership Consortia in Sensory Disabilities and Disabilities Associated with Intensive Service Needs

Background

Over the last two decades, the need for leadership personnel who are prepared at the doctoral level to fill faculty positions in special education, early intervention, and related services has increased (Sindelar & Taylor, 1988; Smith & Lovett, 1987; Smith, Pion, & Tyler, 2004; Smith, Robb, West, & Tyler, 2010; Woods & Snyder, 2009). The need is even greater for faculty focusing on sensory disabilities or disabilities associated with intensive service needs. In many cases, the difficulty of recruiting doctoral-level faculty to fill vacant positions, combined with the high cost to universities of maintaining highly specialized programs, often put even long-standing programs at risk of being closed (Dilka, Haydon, & Mertens, 2007; Evans, Elliot, Hood, Driggs, Mori, & Johnson, 2005; Huebner, Merk-Adam, Stryker, & Wolfe, 2004; Johnson, 2003). Faculty members in these programs are responsible for teacher and service provider preparation as well as conducting research on best practices. These faculty shortages will reduce the supply of effective teachers and service providers for this high-need group of infants, toddlers, children, and youth with disabilities while also restricting the evidence base on best practices for supporting these populations.

Doctoral-level personnel are also needed to serve in administrative positions in State educational agencies (SEAs), local educational agencies (LEAs), lead agencies (LAs), and early intervention services programs (EIS programs), where they supervise and evaluate the implementation of evidence-based interventions and instructional programs to make sure that State or local agencies are meeting the needs of children with disabilities. A shortage of doctoral-level personnel preparing service providers, conducting research on best practices, and serving as administrators at the State and local level can negatively affect the provision of services to children with sensory impairments and intensive service needs.

Few university programs include specialized training in sensory disabilities and few have training programs to address students with disabilities with intensive service needs. Those universities that have these programs often have only one faculty position because of shortages of highly skilled doctoral-level personnel and the high cost of maintaining these programs. Single-faculty programs are limited in the number of scholars they can prepare and mentor, and they are limited in the range of the academic curriculum and the diversity of opportunities available to scholars. The scarcity of specialized training programs in turn limits the opportunity for scholars to pursue doctoral degrees in these high-need areas. Often, these programs only admit a small number of scholars each year due to faculty constraints.

The Office of Special Education Programs (OSEP) has funded leadership preparation consortia in sensory disabilities (blind and visually impaired, deaf-blind, and deaf and hard of hearing) since 2004. The academic and career outcomes of consortium scholars are exceptional. The national median time to complete a doctorate in education is 11.7 years, while median time to completion for consortium scholars is 3.1 years (U.S. Department of Education, Institute of Education Sciences, National Center for Education Statistics, 2013). Nationally, reported rates of attrition vary from 40-70 percent for doctoral programs in education (Washburn-Moses, 2008), compared to the consortia rate of 6 percent. Further, all consortium scholars were immediately employed in leadership positions following completion of their degrees. Additional information about the consortia, the scholars, and program outcomes is located at the following Web sites: www.salus.edu/nclvi/ and www.salus.edu/nlcsd/.

The purpose of this priority is to support two leadership training consortia to prepare doctoral-level leaders in special education, early intervention, and related services. Each university consortium will prepare doctoral-level leaders with highly specialized skills, knowledge, and expertise in sensory disabilities or students with disabilities with intensive service needs, respectively. The consortia will prepare leaders who can act effectively in leadership positions in universities, SEAs, LEAs, LAs, EIS programs, or schools.

Priority

The purpose of the Leadership Consortia in Sensory Disabilities and Disabilities Associated with Intensive Service Needs ¹ priority is to increase the number of highly skilled doctoral leaders by funding two cooperative agreements to support two leadership training consortia to prepare doctoral-level leaders in special education, early intervention, and related services in two focus areas.

¹ For the purpose of this absolute priority “intensive service needs” or “intensive, specialized service areas,” refer to cases where infants, toddlers, preschoolers and children have a complex array of disabilities (e.g., multiple disabilities, significant physical disabilities) or require intensive interventions (i.e., that are specifically designed to address persistent learning or behavior difficulties, implemented with greater frequency and for an extended duration than is commonly offered in a typical classroom or early intervention setting, or which require early interventionists and educators to have knowledge and skills in implementing multiple evidence-based interventions).

To be considered for funding under the Leadership Consortia in Sensory Disabilities and Disabilities Associated with Intensive Service Needs absolute priority, all program applicants must meet the application requirements contained in the priority. All projects funded under the absolute priority also must meet the programmatic and administrative requirements specified in the priority.

The requirements of this priority are as follows:

(a) Demonstrate, in the narrative section of the application under “Significance of the Project,” how—

(1) The project addresses national needs for leadership personnel to administer programs or to provide, or prepare others to provide, interventions and services that improve outcomes of children with disabilities, ages birth through 21. To address this requirement, the applicant must—

(i) Present appropriate and applicable data demonstrating a national need for the leadership personnel the applicant proposes to prepare or, in cases where national data are not available, State or regional data demonstrating the need; and

(ii) Present data on the potential effectiveness of the proposed project in addressing the identified need for well-trained leadership personnel. These data could include the average amount of time it takes for program graduates to complete the program, the percentage of program graduates finding employment directly related to their preparation, and the professional accomplishments of program graduates (e.g., public service, honors, student outcome data, or publications) that demonstrate their leadership in special education, early intervention, or related services;

(2) Scholar competencies will be acquired through the completion of a scholar's university program of study where each is enrolled. Proposed consortia must also ensure that all scholars enrolled in the Consortium program participate in and complete, in addition to the scholar's university program of study, a unique Consortium curriculum designed to supplement and enhance each individual Consortium university's program of study by providing academic and professional opportunities and instruction that will relate to knowledge and skills needed by the leadership personnel the Consortium proposes to prepare, including knowledge of technologies designed to provide instruction. To address this requirement, the applicant must—

(i) Identify the competencies needed by leadership personnel in postsecondary instruction, administration, policy development, professional practice, leadership, or research in order to administer programs or provide, or prepare others to provide, interventions and services that improve outcomes of children with disabilities, ages birth through 21; and

(ii) Provide the conceptual framework of the Consortium model of leadership preparation, including any empirical evidence of effectiveness, that will promote the acquisition of the identified competencies needed by leadership personnel and, where applicable, how these competencies relate to the competencies required in the specific areas of specialization and the competency requirements embedded in the Consortium curriculum.

(b) Demonstrate, in the narrative section of the application under “Quality of the Project Services,” how—

(1) The project will recruit and support a minimum of 28 high-quality scholars. The Consortium may only recruit individuals with no current or previous enrollment in a doctoral training program in special education or a related service area. Consortium scholars must be first-time enrollees in a doctoral training program in special education or related service areas. The narrative must—

(i) Describe the selection criteria the applicant will use to identify high-quality applicants for admission in the program;

(ii) Describe the recruitment strategies the applicant will use to attract high-quality applicants and any specific recruitment strategies targeting high-quality applicants from traditionally underrepresented groups, including persons with disabilities; and

(iii) Describe the approach the applicant will use to help scholars complete the program.

(2) The project is designed to promote the acquisition of the competencies needed by leadership personnel to administer programs or provide, or prepare others to provide, interventions and services that improve outcomes of children with disabilities. To address this requirement, the applicant must—

(i) Describe how the components of the project, such as: (A) The Consortium curriculum; (B) internship or practicum experiences; (C) research requirements; (D) opportunities provided to scholars to analyze data; (E) opportunities provided to scholars to critique research and research methodologies; and (F) opportunities provided to scholars to practice newly acquired knowledge and skills, will enable the scholars to acquire the competencies needed by leadership personnel for postsecondary instruction, administration, policy development, professional practice, leadership, or research in special education, early intervention, or related services;

(ii) Describe how the components of the Consortium curriculum are integrated within and across the individual university program curricula in order to support the acquisition and enhancement of the identified competencies needed by leadership personnel in special education, early intervention, or related services;

(iii) Describe how the components of the Consortium prepare scholars to administer programs or provide, or prepare others to provide, interventions and services that improve outcomes, including college- and career-readiness, of children with disabilities in a variety of settings;

(iv) Describe the approach that faculty members will use to mentor scholars with the goal of helping them acquire competencies needed by leadership personnel and promote career goals in special education, early intervention, or related services;

(v) Describe how the project is designed to ensure that scholars have opportunities to work with faculty and scholars from other universities within the Consortium on research and analytical projects in order to support the acquisition of the competencies identified in paragraph (a)(2)(i); and

(vi) Describe how the project will align with and use resources, as appropriate, available through technical assistance centers, which may include centers funded by the Department.

(3) The project will establish and maintain an advisory committee. The advisory committee must—

(i) Consist of no fewer than five members, at least three of whom should be representatives of organizations or associations representing the interests of persons with disabilities (specifically the disability areas addressed by the project) and at least one of whom should be a representative of an SEA, LEA, or LA. Advisory committee members should be identified no later than six weeks from the award date;

(ii) Meet no less than twice per year during the project period with the project director and relevant project staff;

(iii) Provide feedback to project staff on the development and implementation of project curriculum and on the progress of the project toward meeting project goals; and

(iv) Assist in providing opportunities and mentorship for the scholars that will enhance their understanding of disability and provide them with experiences beyond the university setting.

(4) The project will establish and maintain a Web site containing relevant information and documents relating to the academic work, publications, presentations, and degree completion and employment status of scholars, and information about the universities and faculty participating in the project.

(c) Include, in the narrative section of the application under “Significance of the Project,” a logic model that depicts, at a minimum, the goals, activities, outputs, and outcomes of the proposed project. A logic model communicates how a project will achieve its outcomes and provides a framework for both the formative and summative evaluations of the project;

Note: The following Web sites provide more information on logic models: www.researchutilization.org/matrix/logicmodel_resource3c.html and www.tadnet.org/pages/589.

(d) In the narrative section of the application under “Quality of the Project Evaluation,” include an evaluation plan as described in the following paragraphs. The evaluation plan must describe: Measures of progress in implementation and measures of outcomes or results of the project's activities in order to assess the effectiveness of those activities.

In designing the evaluation, the project must—

(1) Designate, with the approval of the OSEP project officer, a project liaison staff person with sufficient dedicated time, experience in evaluation, and knowledge of the project to work in collaboration with the Center to Improve Project Performance (CIPP),² the project director, and the OSEP project officer on the following tasks:

² The major tasks of CIPP are to guide, coordinate, and oversee the design of formative evaluations for every large discretionary investment (i.e., those awarded $500,000 or more per year and required to participate in the 3 + 2 process) in OSEP's Technical Assistance and Dissemination; Personnel Development; Parent Training and Information Centers; and Educational Technology, Media, and Materials programs. The efforts of CIPP are expected to enhance individual project evaluation plans by providing expert and unbiased technical assistance in designing the evaluations with due consideration of the project's budget. CIPP does not function as a third-party evaluator.

(i) Revise, as needed, the logic model submitted in the grant application to provide for a more comprehensive measurement of implementation and outcomes and to reflect any changes or clarifications to the model discussed at the kick-off meeting;

(ii) Refine the evaluation design and instrumentation proposed in the grant application consistent with the logic model (e.g., preparing evaluation questions about significant program processes and outcomes, developing quantitative or qualitative data collections that permit both the collection of progress data, including fidelity of implementation, as appropriate, and the assessment of effectiveness, selecting respondent samples if appropriate, designing instruments or identifying data sources, and identifying analytic strategies); and

(iii) Revise, as needed, the evaluation plan submitted in the grant application such that it clearly—

(A) Specifies the measures and associated instruments or sources for data appropriate to the evaluation questions, suggests analytic strategies for those data, provides a timeline for conducting the evaluation, and includes staff assignments for completion of the plan;

(B) Delineates the data expected to be available by the end of the second project year for use during the project's review for continued funding described under the heading Fourth and Fifth Years of the Project; and

(C) Can be used to assist the project director and the OSEP project officer, with the assistance of CIPP, as needed, to specify the performance measures to be addressed in the project's Annual Performance Report;

(2) Cooperate with CIPP staff in order to accomplish the tasks described in paragraph (1) of this section; and

(3) Dedicate sufficient funds in each budget year to cover the costs of carrying out the tasks described in paragraphs (1) and (2) of this section and implementing the evaluation plan.

(e) Demonstrate, in the narrative under “Required Project Assurances” or appendices, as directed, that the following program requirements are met. The applicant must—

(1) Ensure that all scholars recruited into the Consortium can graduate from the program by the end of the grant's project period. The described scholar recruitment strategies, the program components and their sequence, and proposed budget must be consistent with this project requirement;

(2) Ensure that the project will meet the requirements in 34 CFR 304.23, particularly those related to informing all scholarship recipients of their service obligation commitment. Failure by a grantee to properly meet these requirements would be a violation of the grant award that could result in sanctions, including the grantee being liable for returning any misused funds to the department. Specifically, the grantee must prepare, and ensure that each scholarship recipient sign, the following two documents:

(i) A Pre-Scholarship Agreement prior to the scholar receiving a scholarship for an eligible program (OMB# 1820-0686); and

(ii) An Exit Certification immediately upon the scholar leaving, completing, or otherwise exiting that program (OMB# 1820-0686);

(3) Ensure that the project will meet the statutory requirements in section 662(e) through 662(h) of IDEA;

(4) Ensure that at least 65 percent of the total requested annual budget will be used for scholar support or provide justification in the application narrative for any designation less than 65 percent;

(5) Ensure that scholars work (e.g., as graduate assistants) no more than 20 hours per week while receiving scholarship support, and that, if they work, the work is specifically related to the acquisition of scholars' competencies and the requirements for their doctoral programs. Please note that nothing in this provision prohibits a scholar from meeting the service obligation requirements under section 662(h) of IDEA;

(6) Ensure that scholars are full-time, reside in close proximity to the university, and remain active in their degree programs until completion of their degrees or until grant funding ends;

(7) Ensure that the budget includes attendance of the project director at a three-day project directors' meeting in Washington, DC, during each year of the project. The budget should also provide for the attendance of scholars at the three-day project directors' meeting in Washington, DC, during at least one year of the project period;

(8) Ensure that the budget includes two in-person meetings for project scholars and faculty each year of the project. One meeting per year must be scheduled in Washington, DC. One meeting per year may be scheduled to coincide with a professional conference or meeting but must include designated time for a meeting of project scholars and faculty; and

(9) Ensure that data will be submitted annually about each scholar who receives grant support. Applicants are encouraged to visit the Personnel Development Program Scholar Data Report Web site at: http://oseppdp.ed.gov for further information about this data collection requirement. Typically, data collection begins in January of each year, and grantees are notified by email about the data collection period for their grant. This data collection must be submitted electronically by the grantee and does not supplant the annual grant performance report required of each grantee for continuation funding (see 34 CFR 75.590).

Fourth and Fifth Years of the Project

In deciding whether to continue funding the project for the fourth and fifth years, the Secretary will consider the requirements of 34 CFR 75.253(a), as well as—

(a) The recommendation of a review team consisting of experts selected by the Secretary. This review will be conducted during a one-day intensive meeting that will be held during the last half of the second year of the project period;

(b) The timeliness and effectiveness with which all requirements of the negotiated cooperative agreement have been or are being met by the project; and

(c) The quality, relevance, and usefulness of the project's products and services and the extent to which the project's products and services are aligned with the project's objectives and likely to result in the project achieving its intended outcomes.

Focus Areas

Within this absolute priority, the Secretary intends to support two cooperative agreements, one under Focus Area A and one under Focus Area B.

Focus Area A: Sensory Disabilities. In addition to the application requirements listed above, applicants submitting applications under Focus Area A must address the following requirements in the application narrative:

(a) Establish a Consortium comprised of institutions of higher education (IHEs) with existing programs that prepare scholars to work as doctoral leaders in the following sensory disability areas: Visual impairment and blindness, deaf-blindness, and deafness and hard of hearing;

(b) Include at least two IHEs with programs preparing scholars in each of the three areas of sensory disabilities listed in paragraph (a); and

(c) Include a letter of commitment from each proposed Consortium member stating the IHE's desire to be part of the proposed Consortium. OSEP will approve the Consortium members within six weeks after making the award; and

(d) Establish policies, procedures, standards, and guidelines for the work of the Consortium in the following areas: (1) Recruitment and selection of students who will be supported by the Consortium; (2) distribution of tuition and stipends among participating students; (3) measurement and reporting of student progress; (4) contingency planning in case of Consortium faculty losses; and (5) governance of the Consortium. The Consortium must submit these proposed policies, procedures, standards, and guidelines to the OSEP project officer for approval prior to their implementation.

Focus Area B: Disabilities Associated with Intensive Service Needs. The Secretary is interested in increasing the number of high-quality training programs in disability areas associated with intensive service needs by pairing new applicants with programs in these high-need areas with more experienced applicants in order to aid new applicants in expanding and improving their training programs and to increase the competitiveness of any future applications under the Department's leadership program (CFDA 84.325D). Under the consortium model, new applicants and their scholars should benefit from the experience of working collaboratively with applicants and their faculty members who have more experience with developing and writing applications, program improvement, program implementation, grants administration, and grants implementation. Given the results of the 2004 consortium, and the preliminary results of the 2009 consortium, we anticipate that university faculty and scholars in both new and more experienced university programs will continue to benefit from the experiences after the consortium project has ended.

In addition to the application requirements listed above, applicants submitting applications under Focus Area B must address the following requirements in the application narrative:

(a) Establish a Consortium comprised of IHEs that prepare scholars to work as doctoral leaders in special education, early intervention, and related services with students or children with disabilities who have high needs and require intensive intervention services. Programs in sensory disabilities are not included in this focus area;

(b) Include at least three IHEs that have received funding under at least one grant award under CFDA 84.325D since fiscal year (FY) 2004 in the specific high-need area under which the Consortium plans to prepare scholars;

(c) Include at least three doctoral preparation programs that have not received funding under CFDA 84.325D since FY 2004 in the specific high-need area under which the IHEs propose to prepare scholars;

(d) Include a letter of commitment from each proposed consortium member stating the IHE's desire to be part of the proposed Consortium. OSEP will approve the Consortium members within six weeks after making the award; and

(e) Establish policies, procedures, standards, and guidelines for the work of the Consortium in the following areas: (1) Recruitment and selection of students who will be supported by the Consortium; (2) distribution of tuition and stipends among participating students; (3) measurement and reporting of student progress; (4) contingency planning in case of Consortium faculty losses; and (5) governance of the Consortium. The Consortium must submit these proposed policies, procedures, standards, and guidelines to the OSEP project officer for approval prior to their implementation.

Note: Applicants must identify the specific focus area, Focus Area A or Focus Area B, under which they are applying for funding as part of the competition title on the application cover sheet (SF form 424, item 15). Programs in sensory disabilities may not submit an application or be included as a participating university program in an application under Focus Area B. Applicants may not submit the same proposal for more than one focus area. The Secretary will not consider either application if an applicant applies under both focus areas.

Note: For additional information regarding group applications, refer to 34 CFR 75.127, 75.128, and 75.129.

References

Dilka, K., Haydon, D., & Mertens, D.M. (2007). Program faculty demographics of deaf and hard of hearing teacher preparation programs. Paper presented at the Association of College Educators—Deaf & Hard of Hearing.

Evans, S., Eliot, M., Hood, J., Driggs, M., Mori, A., and Johnson, T. (2005, Fall). Assessing the special education faculty shortage: The crisis in California—A statewide study of the professoriate. Teachers and Teacher Education Research: A Publication of the California Council on Teacher Education, 32, 7-21.

Huebner, M.K., Merk-Adam, B., Stryker, D., & Wolfe, K.E. (2004). The national agenda for the education of children and youths with visual impairments, including those with multiple disabilities—revised. New York: American Foundation for the Blind.

Johnson, H.A. (2003). U.S. deaf education teacher preparation programs: A look at the present and a vision for the future (COPSSE Document No. IB-9). Gainesville, FL: University of Florida, Center of Personnel Studies in Special Education.

Sindelar, P.T., & Taylor, C. (1988). Supply and demand for doctoral personnel in special education and communication disorders. Teacher Education and Special Education, 11, 162-167.

Smith, D.D., & Lovett, D. (1987). The supply and demand of special education faculty members: Will the supply meet the demand? Teacher Education and Special Education, 11, 162-167.

Smith, D.D., Pion, G.M., & Tyler, N.C. (2004). Leadership personnel in special education: Can persistent shortages be resolved? In A.M. Sorells, H.J., Rieth & P.T. Sindelar (Eds.), Critical Issues in Special Education: Access, Diversity, and Accountability (pp. 258-276). New York: Pearson, Allyn, & Bacon.

Smith, D.D., Robb, S.M., West, J., & Tyler, N.C. (2010). The changing education landscape: How special education leadership preparation can make a difference for teachers and their students with disabilities. Teacher Education and Special Education, 33(1), 25-43.

U.S. Department of Education, Institute of Education Sciences, National Center for Education Statistics. (2013). Table 324.80. Statistical profile of persons receiving doctor's degrees, by field of study and selected characteristics: 2009-10 and 2010-11. In U.S. Department of Education, Institute of Education Sciences, National Center for Education Statistics (Ed.), Digest of Education Statistics (2013 ed.). Retrieved from http://nces.ed.gov/programs/digest/d13/tables/dt13_324.80.asp.

Wasburn-Moses, L. (2008). Satisfaction among current doctoral students in special education. Remedial and Special Education, 29(5), 259-268.

Woods, J., & Snyder, P. (2009). Interdisciplinary doctoral leadership training in early intervention. Infants & Young Children, 22(1), 32-34.

Waiver of Proposed Rulemaking: Under the Administrative Procedure Act (APA) (5 U.S.C. 553) the Department generally offers interested parties the opportunity to comment on proposed priorities and requirements. Section 681(d) of IDEA, however, makes the public comment requirements of the APA inapplicable to the priorities in this notice.

Program Authority: 20 U.S.C. 1462 and 1481.

Applicable Regulations: (a) The Education Department General Administrative Regulations (EDGAR) in 34 CFR parts 74, 75, 77, 79, 80, 81, 82, 84, 86, 97, 98, and 99. (b) The Education Department debarment and suspension regulations in 2 CFR part 3485. (c) The regulations for this program in 34 CFR part 304.

Note: The regulations in 34 CFR part 79 apply to all applicants except federally recognized Indian tribes.

Note: The regulations in 34 CFR part 86 apply to IHEs only.

II. Award Information

Type of Award: Cooperative agreements.

Estimated Available Funds: $3,000,000.

Contingent upon the availability of funds and the quality of applications, we may make additional awards in FY 2015 from the list of unfunded applicants from this competition.

Estimated Range of Awards: $1,250,000-$1,500,000 per year.

Estimated Average Size of Awards: $1,275,000 per year.

Maximum Award: We will reject any application that proposes a budget exceeding $1,500,000 for a single budget period of 12 months. The Assistant Secretary for Special Education and Rehabilitative Services may change the maximum amount through a notice published in the Federal Register.

Estimated Number of Awards: One award per Focus Area.

Note: The Department is not bound by any estimates in this notice.

Project Period: Up to 36 months with an optional additional 24 months based on performance. Applications must include plans for both the 36-month award and the 24-month extension.

III. Eligibility Information

1. Eligible Applicants: IHEs, private nonprofit organizations.

2. Cost Sharing or Matching: This program does not require cost sharing or matching.

3. Other: General Requirements

(a) Recipients of funding under this program must make positive efforts to employ and advance in employment qualified individuals with disabilities (see section 606 of IDEA).

(b) Each applicant for, and recipient of, funding under this program must involve individuals with disabilities, or parents of individuals with disabilities ages birth through 26, in planning, implementing, and evaluating the project (see section 682(a)(1)(A) of IDEA).

IV. Application and Submission Information

1. Address to Request Application Package: You can obtain an application package via the Internet or from the Education Publications Center (ED Pubs). To obtain a copy via the Internet, use the following address: www.ed.gov/fund/grant/apply/grantapps/index.html. To obtain a copy from ED Pubs, write, fax, or call the following: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application from ED Pubs, be sure to identify this competition as follows: CFDA number 84.325H.

Individuals with disabilities can obtain a copy of the application package in an accessible format (e.g., braille, large print, audiotape, or compact disc) by contacting the person or team listed under Accessible Format in section VIII of this notice.

2. Content and Form of Application Submission: Requirements concerning the content of an application, together with the forms you must submit, are in the application package for this competition.

Page Limit: The application narrative (Part III of the application) is where you, the applicant, address the selection criteria that reviewers use to evaluate your application. You must limit Part III to no more than 50 pages, using the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial. An application submitted in any other font (including Times Roman or Arial Narrow) will not be accepted.

The page limit and double-spacing requirement does not apply to Part I, the cover sheet; Part II, the budget section, including the narrative budget justification; Part IV, the assurances and certifications; or the abstract (follow the guidance provided in the application package for completing the abstract), the table of contents, the list of priority requirements, the resumes, the reference list, the letters of support, or the appendices. However, the page limit and double-spacing requirement does apply to all of Part III, the application narrative, including all text in charts, tables, figures, graphs, and screen shots.

We will reject your application if you exceed the page limit in the application narrative section; or if you apply standards other than those specified in the application package.

3. Submission Dates and Times:

Applications Available: April 21, 2014.

Deadline for Transmittal of Applications: June 5, 2014.

Applications for grants under this competition must be submitted electronically using the Grants.gov Apply site (Grants.gov). For information (including dates and times) about how to submit your application electronically, or in paper format by mail or hand delivery if you qualify for an exception to the electronic submission requirement, please refer to section IV. 7. Other Submission Requirements of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: August 4, 2014.

4. Intergovernmental Review: This program is subject to Executive Order 12372 and the regulations in 34 CFR part 79. Information about Intergovernmental Review of Federal Programs under Executive Order 12372 is in the application package for this program.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry (CCR)), the Government's primary registrant database;

c. Provide your DUNS number and TIN on your application; and

d. Maintain an active SAM registration with current information while your application is under review by the Department and, if you are awarded a grant, during the project period.

You can obtain a DUNS number from Dun and Bradstreet. A DUNS number can be created within one-to-two business days.

If you are a corporate entity, agency, institution, or organization, you can obtain a TIN from the Internal Revenue Service. If you are an individual, you can obtain a TIN from the Internal Revenue Service or the Social Security Administration. If you need a new TIN, please allow 2-5 weeks for your TIN to become active.

The SAM registration process can take approximately seven business days, but may take upwards of several weeks, depending on the completeness and accuracy of the data entered into the SAM database by an entity. Thus, if you think you might want to apply for Federal financial assistance under a program administered by the Department, please allow sufficient time to obtain and register your DUNS number and TIN. We strongly recommend that you register early.

Note: Once your SAM registration is active, you will need to allow 24 to 48 hours for the information to be available in Grants.gov and before you can submit an application through Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: http://www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications

Applications for grants under the Leadership Consortia in Sensory Disabilities and Disabilities Associated with Intensive Service Needs competition, CFDA number 84.325H, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Leadership Consortia in Sensory Disabilities and Disabilities Associated with Intensive Service Needs competition at www.Grants.gov. You must search for the downloadable application package for this competition by the CFDA number. Do not include the CFDA number's alpha suffix in your search (e.g., search for 84.325, not 84.325H).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a PDF (Portable Document) read-only, non-modifiable format. Do not upload an interactive or fillable PDF file. If you upload a file type other than a read-only, non-modifiable PDF or submit a password-protected file, we will not review that material. Additional, detailed information on how to attach files is in the application instructions.

• Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by email. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application.

If you mail your written statement to the Department, it must be postmarked no later than two weeks before the application deadline date. If you fax your written statement to the Department, we must receive the faxed statement no later than two weeks before the application deadline date.

Address and mail or fax your statement to: Glinda Hill, U.S. Department of Education, 400 Maryland Avenue SW., Room 4063, Potomac Center Plaza (PCP), Washington, DC 20202-2600. FAX: (202) 245-7617.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the following address: U.S. Department of Education, Application Control Center, Attention: (CFDA Number 84.325H), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery

If you qualify for an exception to the electronic submission requirement, you (or a courier service) may deliver your paper application to the Department by hand. You must deliver the original and two copies of your application by hand, on or before the application deadline date, to the Department at the following address: U.S. Department of Education, Application Control Center, Attention: (CFDA Number 84.325H), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this program are from 34 CFR 75.210 and are listed in the application package.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications. However, if the Department decides to select an equal number of applications in each group for funding, this may result in different cut-off points for fundable applications in each group.

4. Special Conditions: Under 34 CFR 74.14 and 80.12, the Secretary may impose special conditions on a grant if the applicant or grantee is not financially stable; has a history of unsatisfactory performance; has a financial or other management system that does not meet the standards in 34 CFR parts 74 or 80, as applicable; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993 (GPRA), the Department has established a set of performance measures, including long-term measures, that are designed to yield information on various aspects of the effectiveness and quality of the Personnel Development to Improve Services and Results for Children with Disabilities Program. These measures include: (1) The percentage of Special Education Personnel Development projects that incorporate evidence-based practices into their curriculum; (2) the percentage of scholars completing Special Education Personnel Development-funded programs who are knowledgeable and skilled in evidence-based practices for infants, toddlers, children, and youth with disabilities; (3) the percentage of Special Education Personnel Development-funded scholars who exit preparation programs prior to completion due to poor academic performance; (4) the percentage of Special Education Personnel Development-funded degree/certification recipients who are working in the area(s) for which they were prepared upon program completion; (5) the percentage of Special Education Personnel Development-funded degree/certification recipients who are working in the area(s) for which they were prepared upon program completion and who are fully qualified under IDEA; (6) the percentage of Special Education Personnel Development degree/certification recipients who maintain employment in the area(s) for which they were prepared for three or more years and who are fully qualified under IDEA; and (7) the Federal cost per fully qualified degree/certification recipient.

In addition, the Department will be gathering information on the following outcome measures: (1) The number and percentage of degree/certification recipients who are employed in high-need schools; (2) the number and percentage of degree/certification recipients who are employed in a school for at least three years; and (3) the number and percentage of degree/certification recipients whose employers are satisfied with the performance of the individuals.

Grantees may be asked to participate in assessing and providing information on these aspects of program quality.

5. Continuation Awards: In making a continuation award, the Secretary may consider, under 34 CFR 75.253, the extent to which a grantee has made “substantial progress toward meeting the objectives in its approved application.” This consideration includes the review of a grantee's progress in meeting the targets and projected outcomes in its approved application, and whether the grantee has expended funds in a manner that is consistent with its approved application and budget. In making a continuation grant, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Glinda Hill, U.S. Department of Education, 400 Maryland Avenue SW., Room 4063, PCP, Washington, DC 20202-2600. Telephone: (202) 245-7376.

If you use a TDD or a TTY, call the Federal Relay Service (FRS), toll free, at 1-800-877-8339.

VIII. Other Information

Accessible Format: Individuals with disabilities can obtain this document and a copy of the application package in an accessible format (e.g., braille, large print, audiotape, or compact disc) by contacting the Grants and Contracts Services Team, U.S. Department of Education, 400 Maryland Avenue SW., Room 5075, PCP, Washington, DC 20202-2550. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: April 14, 2014.
Michael K. Yudin,
Acting Assistant Secretary for Special Education and Rehabilitative Services.

[FR Doc. 2014-08965 Filed 4-18-14; 8:45 am]

BILLING CODE 4000-01-P